HARRY S. TRUMAN SCHOLARSHIP FOUNDATION

Notice of Intent To Seek Approval To Extend an Information Collection

AGENCY: Harry S. Truman Scholarship Foundation.

ACTION: Submission for OMB review; comment request.

SUMMARY: The Truman Scholarship Foundation (Foundation) has submitted the following information collection requirement to OMB for review and clearance under the Paperwork Reduction Act of 1995, Public Law 104-13. This is the second notice for public comment: The first was published in the Federal Register [May 10, 2000 (Volume 65, Number 91), page 30122-30123], and no comments were received. The Foundation is forwarding the proposed renewal submission to OMB for clearance simultaneously with the publication of this second notice.

COMMENTS: Comments regarding (a) Whether the information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques for other forms of information technology should be addressed to: Office of Information and Regulatory Affairs of OMB, Attention: Desk Officer for the Harry S. Truman Scholarship Foundation, 725 17th Street, NW., Room 10235, Washington, DC 20503, and to Louis H. Blair, Executive Secretary, Harry S. Truman Scholarship Foundation, 712 Jackson Place, NW., Washington, DC 20005 or send e-mail to Lblair@truman.gov.

DATES: Comments regarding this information collection is best assured of having their full effect if received on or before August 13, 2000. Copies of the submission may be obtained at 202-395-7433.

FOR further information contact: Louis H. Blair, Executive Secretary, Harry S. Truman Scholarship Foundation, 712 Jackson Place, NW., Washington, DC 20005 or send e-mail to Lblair@truman.gov.

SUPPLEMENTARY INFORMATION:

Title of Collection: Truman Scholar Payment Request Form.

OMB Approval Number. 3200-0005.

Proposed Project: The Foundation has been providing scholarships since 1977 in compliance with PL 93-642. This data collection instrument is used to collect essential information to enable the Truman Scholarship Foundation to determine the amount of funds to be disbursed to each Scholar in accordance with the Foundation's regulations, the institution's cost of attendance budget, and sources of scholarship support received by the Scholar.

A total response rate of 100% was provided by the 273 Truman Scholars who received Foundation support in FY 1999.

Estimate of Burden: The Foundation estimates that, on average, 0.2 hours per respondent will be required to complete the payment request for a total of 55 hours for all respondents.

Respondents: Individuals.

Estimated Number of Responses: 275 per year.

Estimated Total Annual Burden on Respondents: 55 hours.

Dated: July 11, 2000.
Louis H. Blair,
Executive Secretary.

[FR Doc. 00-17865 Filed 7-13-00; 8:45 am]

BILLING CODE 6820-AD-M